DEPARTMENT OF TRANSPORTATION

Saint Lawrence Seaway Development Corporation Advisory Board—Notice of Public Meetings

AGENCY: Saint Lawrence Seaway Development Corporation (SLSDC); DOT.

ACTION: Notice of Public Meeting.

SUMMARY: This notice announces the public meeting via conference call of the Saint Lawrence Seaway Development Corporation Advisory Board.

DATES: The public meeting will be held on (all times Eastern):

• Monday, July 23, 2018 from 2:00 p.m.-4:00 p.m. EST

ADDRESSES: The meeting will be held via conference call at the SLSDC's Headquarters, 55 M Street SE, Suite 930, Washington, DC 20003.

FOR FURTHER INFORMATION CONTACT: Wayne Williams, Chief of Staff, Saint Lawrence Seaway Development Corporation, 1200 New Jersey Avenue SE, Washington, DC 20590; 202-366-0091

SUPPLEMENTARY INFORMATION: Pursuant to Section 10(a)(2) of the Federal Advisory Committee Act (Public Law 92-463; 5 U.S.C. App. I), notice is hereby given of a meeting of the Advisory Board of the Saint Lawrence Seaway Development Corporation (SLSDC). The agenda for this meeting will be as follows:

July 23, 2018 From 2:00 p.m.-4:00 p.m. EST

1. Opening Remarks

2. Consideration of Minutes of Past Meeting

3. Quarterly Report

4. Old and New Business

5. Closing Discussion

6. Adjournment.

Public Participation

Attendance at the meeting is open to the interested public but limited to the space available. With the approval of the Administrator, members of the public may present oral statements at the meeting. Persons wishing further information should contact the person listed under the heading, FOR FURTHER INFORMATION CONTACT, not later than Friday, July 13, 2018. Any member of the public may present a written statement to the Advisory Board at any time.

Issued on June 14, 2018.
Carrie Lavigne,
Chief Counsel, Saint Lawrence Seaway Development Corporation.

[FR Doc. 2018-13131 Filed 6-18-18; 8:45 am]

BILLING CODE 4910-61-P